DEPARTMENT OF TRANSPORTATION

National Highway Traffic Safety Administration

[Docket No. NHTSA-2005-22970; Notice 1]

Les Entreprises Michel Corbeil Inc., Receipt of Petition for Decision of Inconsequential Noncompliance

Les Entreprises Michel Corbeil Inc. (Corbeil) has determined that certain school buses that it produced in 2004 do not comply with S5.1 of 49 CFR 571.221, Federal Motor Vehicle Safety Standard (FMVSS) No. 221, “School bus body joint strength.” Corbeil has filed an appropriate report pursuant to 49 CFR Part 573, “Defect and Noncompliance Reports.”

Pursuant to 49 U.S.C. 30118(d) and 30120(h), Corbeil has petitioned for an exemption from the notification and remedy requirements of 49 U.S.C. Chapter 301 on the basis that this noncompliance is inconsequential to motor vehicle safety.

This notice of receipt of Corbeil's petition is published under 49 U.S.C. 30118 and 30120 and does not represent any agency decision or other exercise of judgment concerning the merits of the petition.

Affected are a total of approximately 295 school buses produced between May 3, 2004 and June 4, 2004. S5.1 of FMVSS No. 221 requires that,

* * * each body panel joint * * * when tested in accordance with the procedure of S6, shall hold the body panel to the member to which it is joined when subjected to a force of 60 percent of the tensile strength of the weakest joined body panel determined pursuant to S6.2.

The longitudinal roof joint on some of the subject school buses fails when tested according to the requirements of S5.1.

Corbeil believes that the noncompliance is inconsequential to motor vehicle safety and that no corrective action is warranted. Corbeil states that during the period of production of the subject school buses, “the production used expired glue.” Corbeil estimates that 61 of the 295 buses could be affected, based on the number of expired glue cartridges that were used.

Corbeil further states,

* * * repairs could affect the structural integrity of these buses' roofs. If we proceed with repairs, we must remove the actual MS polymer strips on the roof to reach the joints. This operation requires us to preheat (300-600 °F) the MS polymer strip (will soften the MS polymer) but at the same time will cause a significant urethane chemical modification and will affect the actual joint strength. The roof joint is composed of urethane glue and this glue will be affected if the temperature is higher than 194 °F * * * If our educated estimate is that only 61 buses on (sic) the 295 buses involved in this recall are affected, however they cannot be individually identified. Also, during the test, the transverse joint succeeded at 116% of the requirement and the longitudinal joint failed only by 9% with 91% of the requirement. The objective of this recall is to increase the strength of the joint. We presently suspect that a retrofit could affect/damage the roof rather to (sic) reinforce the joint.

Corbeil states that no accidents or injuries have occurred as a result of this noncompliance.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: December 23, 2005.

Authority: 49 U.S.C. 30118, 30120: delegations of authority at CFR 1.50 and 501.8.

Issued on: November 17, 2005.
Daniel C. Smith,
Associate Administrator for Enforcement.

[FR Doc. 05-23138 Filed 11-22-05; 8:45 am]

BILLING CODE 4910-59-P